DEPARTMENT OF STATE

[Public Notice 5073]

Bureau of Educational and Cultural Affairs (ECA) Request for Grant Proposals: English as a Foreign Language (EFL) Institute for Teachers from Bangladesh and Eastern India (West Bengal, Bihar, and Orissa)

Announcement Type: New Grant.

Funding Opportunity Number: ECA/A/S/X-05-05.

Catalog of Federal Domestic Assistance Number: 00.000.

Key Dates:

Application Deadline: June 9, 2005.

Executive Sumary: The Fulbright Teacher Exchange Branch, Office of Global Educational Programs of the Bureau of Educational and Cultural Affairs (ECA) announces an open competition for an assistance award program to support the development of a regional teacher-training institute for South Asia. Accredited, post-secondary educational institutions meeting the provisions described in Internal Revenue Code section 26 U.S.C. 501(c)(3) may submit proposals to develop a joint English-as-a-Foreign Language (EFL) Institute for middle school teachers from Bangladesh and Eastern India (West Bengal, Bihar and Orissa). The Institute will provide an intensive six-week U.S. academic program for 10-15 qualified English teachers from each of the respective countries. A smaller number (4-6 for each country) of the U.S. partner teachers will travel to Bangladesh and Eastern India (West Bengal, Bihar and Orissa) to train other teachers with the project alumni in country.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The Bureau asks for detailed proposals from U.S. institutions of higher education that have expertise in the field of EFL. Proposals should demonstrate a deep understanding of the local educational systems in Bangladesh and Eastern India (West Bengal, Bihar and Orissa) as well as the issues confronting English-language education there. Special expertise in handling cross-cultural programs is highly desirable. Proposals should also outline practical and feasible follow-on activities that build on the achievements of the program while promoting the continued exchanges of ideas between the participants, their U.S. partners and the U.S. institution receiving the grant.

The proposal should reflect five overall goals: (1) To produce a highly focused “Institute” (seminar) that enables participants to improve their English speaking and reading skills; (2) to provide training that updates participants in best practices in EFL at the middle school level; (3) to provide training that will improve participants' teaching skills, to include student-centered learning and “train the trainer” skills that they can use to conduct workshops on institute topics in their home countries in the future; (4) to arrange for participants to shadow U.S. teachers at schools with whom they will partner to develop training modules which they will use to train other teachers in their home districts in Bangladesh and Eastern India; and (5) to provide participants with opportunities to interact with Americans, thereby affording them the opportunity to gain awareness and understanding of U.S. culture and society and to discuss their culture with Americans.

Program Design: (Stage I) Participants will be recruited and selected in country by the Public Affairs Section (PAS) of the U.S. Embassy in Dhaka and the U.S. Consulate in Calcutta, coordinating closely with the Regional English Language Office in New Delhi and in consultation with the Bangladeshi and Indian Ministries of Education. U.S. Embassy and Consulate officials will work with the Ministries to facilitate follow-on activities.

After participants have been selected, but prior to their arrival in the U.S., grantee institution representatives will visit both countries to consult with representatives from the PAS of the U.S. Embassy in Dhaka and the U.S. Consulate in Calcutta. After consultation with PAS representatives, the grantee institution will conduct a three-day pre-departure orientation workshop for the participants. This workshop should provide information about the Institute, its goals and expectations of the program participants. It should also relate the Institute objectives to participants' previous training and experience, and promote team-building strategies. At the workshops, organizers should seek input from the Public Affairs Offices of the U.S. Embassy, Dhaka, the U.S. Consulate, Calcutta and the Regional English Language Office in New Delhi about the needs of local teachers, review comparative teaching practices, and address cultural and other practical issues concerning the participants' stay in the U.S.

In planning the Institute's academic and work shadow activities, the U.S. grantee organization, in consultation with the Department of State's Office of English Language Programs, will identify and select specific training and instructional materials to supplement the school curriculums in Bangladesh and Eastern India. These materials will include books, cassette tapes, CD ROMs and other resources. The grantee should include $500-$800 per participant for these training and instructional materials in the budget submission. (See the budget section below.) The grantee will be responsible for purchasing these materials in coordination with the Department of State's Office of English Language Programs and for having them available at the training site. The materials will support the six-week academic and work shadow programs of the Institute as well as the in-country follow-on workshops. These materials are free of copyright and may be duplicated for distribution to local teachers and schools participating in the follow-on workshops.

U.S. Based Training: (Stage II) Following the pre-departure orientation, participants will spend approximately six weeks in the U.S. immersed in the academic and work shadow programs of the Institute organized by the U.S. grantee. The Institute should meet the needs of the Bangladeshi and Indian participants through activities designed by U.S. education specialists with appropriate expertise in EFL instruction, curriculum development and training.

The Institute should have three components: (1) A two-week intensive academic program, (2), a three-week work shadow that will partner foreign and U.S. teachers in team teaching practice, and (3), a three to four day cultural and educational program in Washington, DC. The training portion of the program should address innovative EFL teaching methodologies and approaches and their implementation in Bangladesh and India.

In addition to the work shadow portion of the training, significant time should also be allotted for the inclusion of related professional activities outside the classroom that will introduce participants to U.S. education specialists, activities such as school visits, consultations with other U.S. teachers, and attendance at professional meetings. At a minimum, during the three-week team-teaching, work shadowing component, participants will observe best practices in EFL instruction and practice teaching in a U.S. school.

Among the topics to be addressed during the Institute are: Introduction to computer use for EFL instruction, critical thinking, communication, conflict resolution, analytical and evaluation skills, and student development and motivation.

Participants will not have previously visited the United States. In view of this, an initial orientation to the host institution and its community, as well as an introduction to U.S. society and its system of education, should be an integral part of the Institute and take place shortly after arrival on the U.S. campus. The six-week program should also include cultural activities that facilitate interaction among participants, with American students, faculty, and administrators and the local community to promote mutual understanding between the people of the United States and the people of Bangladesh and India.

The final component of the Institute is the site visit to Washington, DC. The site visit should complement and reinforce the study program. Visit will include a meeting at the Bureau of Educational and Cultural Affairs and other meetings as advised by the Fulbright Teacher Exchange Branch of the Department of State and should include cultural sites, schools and educational organizations.

Administration and management of the study program and the program in Washington, DC will be the responsibility of the U.S. grantee organization. The U.S. institution is responsible for domestic and international travel arrangements, as well as for lodging, food, and allowances for participants while at the host institution, in U.S. based schools during the work shadow portion of the program and in Washington, DC.

In-country Workshops: (Stage III) The final stage of this program will consist of four to six follow-on workshops in each country in different schools facilitated by U.S. teachers and their Bangladeshi or Indian partners for in-country EFL teachers who did not participate in the U.S. program. At these workshops, Institute participants, in collaboration with U.S. teachers, will showcase the teaching strategies they developed in the U.S. and practice the teacher training skills acquired during the program. The U.S. grantee institution will be responsible for facilitating these workshops in close collaboration with PAS in Calcutta and Dhaka and the Regional English Language Office in New Delhi. The grantee institution will assist Institute participants and U.S. teacher teams to plan and organize workshops, and will coordinate travel and provide an orientation program for U.S. teachers.

Budget Guidelines: Applicants must submit a comprehensive budget for the entire program. There must be a summary budget as well as breakdowns reflecting both administrative and program budgets. Applicants may submit separate sub-budgets for each program component, phase, location, or activity to provide clarification. Please allow $500 to $800 per participant to purchase English language materials, which will be coordinated with the Department of State Office of English Language Programs. The grant cost to the Bureau for the U.S.-based Institute, work shadow program and the in-country follow-on activity may not exceed $400,000. Please indicate the number of participants that can be accommodated at this funding level, based on detailed calculations of program and administrative costs. Subject to availability of funds, one grant will be awarded to conduct the EFL Institute, work shadow program and follow on for the two countries.

II. Award Information

Type of Award: Grant Agreement.

Fiscal Year Funds: 2005.

Approximate Total Funding: $400,000.

Approximate Number of Awards: One.

Approximate Average Award: Pending the availability of funds, $400,000.

Ceiling of Award Range: $400,000.

Anticipated Award Date: Pending the availability of funds, September 1, 2005.

Anticipated Project Completion Date: May 2007.

Additional Information: Pending successful implementation of this program and the availability of funds in subsequent fiscal years, it is ECA's intent to renew this grant for two additional fiscal years, before openly competing it again.

III. Eligibility Information

III.1. Eligible Applicants

Applications may be submitted by accredited, post secondary educational organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be for allowable direct or indirect costs. For accountability, you must maintain written records to support all costs that are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

Bureau grant guidelines require that organizations with less than four years experience in conducting international exchanges be limited to $60,000 in Bureau funding. ECA anticipates awarding one grant, in an amount over $60,000 to support program and administrative costs required to implement this exchange program. Therefore, organizations with less than four years experience in conducting international exchanges are ineligible to apply under this competition. The Bureau encourages applicants to provide maximum levels of cost sharing and funding in support of its programs.

IV. Application and Submission Information

Note: Please read the complete Federal Register announcement before sending inquiries or submitting proposals. Once the RFGP deadline has passed, Bureau staff may not discuss this competition with applicants until the proposal review process has been completed.

IV.1. Contact Information to Request an Application Package

Please contact the Fulbright Teacher Exchange, ECA/A/S/X, Room 349, U.S. Department of State, SA-44, 301 4th Street, SW., Washington, DC 20547, (Tel.) 202-619-5293, (Fax) 202-401-1433, and email, saritime@state.gov to request a Solicitation Package. Please refer to the Funding Opportunity Number ECA/A/S/X-05-05 at the top of this announcement when making your request.

The Solicitation Package contains the Proposal Submission Instruction (PSI) document, which consists of required application forms, and standard guidelines for proposal preparation.

Please specify Mary Ellen Sariti and refer to the Funding Opportunity Number ECA/A/S/X-05-05 at the top of this announcement on all other inquiries and correspondence.

IV.2. To Download a Solicitation Package Via Internet

The entire Solicitation Package may be downloaded from the Bureau's Web site at http://exchanges.state.gov/education/rfgps/menu.htm. Please read all information before downloading.

IV.3. Content and Form of Submission

Applicants must follow all instructions in the Solicitation Package. The original and eight copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which are part of the formal application package.

IV.3b. All proposals must contain an executive summary, proposal narrative and budget.

Please refer to the solicitation package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements. Grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, Fax: (202) 401-9809.

Please refer to Solicitation Package for further information.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

Describe your plans for: i.e. sustainability, overall program management, staffing, coordination with ECA and PAS or any other requirements etc.

IV.3e. Please take the following information into consideration when preparing your budget:

IV.3e.1. Applicants must submit a comprehensive budget for the entire program. Awards may not exceed $400,000. There must be a summary budget as well as breakdowns reflecting both administrative and program budgets. Applicants may provide separate sub-budgets for each program component, phase, location, or activity to provide clarification.

IV.3e.2. Allowable costs for the program include the following:

(1) International and domestic travel.

(2) U.S. ground transportation.

(3) Host families.

(4) Professional Development Seminars (instruction, materials, logistics.

(5) Participant maintenance (6 weeks).

(6) Cultural activities.

(7) Book allowance/shipping.

(8) Grantee administrative costs.

(9) Follow-on programming.

Please refer to the Solicitation Package for complete budget guidelines and formatting instructions.

IV.3f. Submission Dates and Times:

Application Deadline Date: June 9, 2005.

Explanation of Deadlines:

Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original and eight copies of the application should be sent to: U.S. Department of State, SA-44, Bureau of Educational and Cultural Affairs, Ref.: ECA/A/S/X-05-05, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

IV.3.h. Applicants must also submit the “Executive Summary” and “Proposal Narrative” sections of the proposal in text (.txt) format on a PC-formatted disk. The Bureau will provide these files electronically to the appropriate Public Affairs Sections at the U.S. embassies for their review.

V. Application Review Information

V.1. Review Process

The Bureau will review all proposals for technical eligibility. Proposals will be deemed ineligible if they do not fully adhere to the guidelines stated herein and in the Solicitation Package. The program office, as well as the Public Diplomacy sections overseas, where appropriate will review all eligible proposals. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grants resides with the Bureau's Grants Officer.

Review Criteria

Technically eligible applications will be competitively reviewed according to the criteria stated below. These criteria are not rank ordered and all carry equal weight in the proposal evaluation:

We have devised the program idea.

1. Program Planning: Detailed agenda and relevant work plan should demonstrate substantive undertakings and logistical capacity. Agenda and plan should adhere to the program overview and guidelines described above.

2. Ability to Achieve Program Objectives: Objectives should be reasonable, feasible, and flexible. Proposals should clearly demonstrate how the institution will meet the program's objectives and plan.

3. Multiplier Effect/Impact: Proposed programs should strengthen long-term mutual understanding, including maximum sharing of information and establishment of long-term institutional and individual linkages.

4. Support of Diversity: Proposals should demonstrate substantive support of the Bureau's policy on diversity. Achievable and relevant features should be cited in both program administration (selection of participants, program venue and program evaluation) and program content (orientation and wrap-up sessions, program meetings, resource materials and follow-up activities).

5. Institutional Capacity: Proposed personnel and institutional resources should be adequate and appropriate to achieve the program or project's goals.

6. Institution's Record/Ability: Proposals should demonstrate an institutional record of successful exchange programs, including responsible fiscal management and full compliance with all reporting requirements for past Bureau grants as determined by Bureau Grants Staff. The Bureau will consider the past performance of prior recipients and the demonstrated potential of new applicants.

7. Follow-on Activities: Proposals should provide a plan for continued follow-on activity (without Bureau support) ensuring that Bureau supported programs are not isolated events.

8. Project Evaluation: Proposals should include a plan to evaluate the activity's success, both as the activities unfold and at the end of the program. A draft survey questionnaire or other technique plus description of a methodology to use to link outcomes to original project objectives are recommended.

9. Cost-effectiveness and Cost-sharing: The overhead and administrative components of the proposal, including salaries and honoraria, should be kept as low as possible. All other items should be necessary and appropriate. Proposals should maximize cost sharing through other private sector support as well as institutional direct funding contributions.

VI. Award Administration Information

VI.1. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://exchanges.state.gov/education/grantsdiv/terms.htm#articleI.

VI.3. Reporting Requirements

You must provide ECA with a hard copy original plus two copies of the following reports:

(1) A final program and financial report no more than 90 days after the expiration of the award.

Grantees will be required to provide reports analyzing their evaluation findings to the Bureau in their regular program reports. (Please refer to IV., Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Optional Program Data Requirements

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. The ECA Program Officer must receive final schedules for in-country and U.S. activities at least three workdays prior to the official opening of the activity.

VII. Agency Contacts

For questions about this announcement, contact: Mary Ellen Sariti, Fulbright Teacher Exchange, Office of Global Educational Programs, ECA/A/S/X, Room 349, ECA/A/S/X-05-05, U.S. Department of State, SA-44, 301 4th Street, SW., Washington, DC 20547, (Tel.) 202-619-5293 (Fax) 202-401-1433, saritime@state.gov.

All correspondence with the Bureau concerning this RFGP should reference the above title and number ECA/A/S/X-05-05.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: May 4, 2005.
C. Miller Crouch,
Principal Deputy Assistant Secretary, Bureau of Educational and Cultural Affairs, Department of State.

[FR Doc. 05-9489 Filed 5-11-05; 8:45 am]

BILLING CODE 4710-05-P